NATIONAL CREDIT UNION ADMINISTRATION

Notice of Sunshine Act Meetings

TIME AND DATE: 10 a.m., Thursday, April 13, 2000.

PLACE: Board Room, 7th Floor, Room 7047, 1775 Duke Street, Alexandria, VA 22314-3428.

STATUS: Open.

MATTERS TO BE CONSIDERED:

1. Final Rule: Amendment to Part 701, NCUA's Rules and Regulations, Secondary Capital Accounts.

2. Final Rule: Amendment to Part 707, NCUA's Rules and Regulations, Truth in Savings.

3. Appeal from a Federal Credit Union of the Regional Director's Denial of a Field of Membership Expansion Request.

RECESS: 11 a.m.

TIME AND DATE: 11:30 a.m., Thursday, April 13, 2000.

PLACE: Board Room, 7th Floor, Room 7047, 1775 Duke Street, Alexandria, VA 22314-3428.

STATUS: Closed.

MATTERS TO BE CONSIDERED:

1. Administrative Action under Part 723 of NCUA's Rules and Regulations. Closed pursuant to exemptions (8) and (9)(A)(ii).

2. Field of Membership Appeal. Closed pursuant to exemption (8).

3. One (1) Personnel Matters. Closed pursuant to exemptions (2) and (6).

FOR FURTHER INFORMATION CONTACT: Becky Baker, Secretary of the Board, Telephone (703) 518-6304.

Becky Baker,
Secretary of the Board.

[FR Doc. 00-9072 Filed 4-7-00; 12:49 pm]

BILLING CODE 7535-01-M